DEPARTMENT OF ENERGY

Federal Energy Regulatory Commission

[Docket No. RM15-20-000]

Five-Year Review of the Oil Pipeline Index; Notice Organizing Conference

On June 30, 2015, the Commission issued a notice of inquiry (NOI) initiating its five-year review of the oil pipeline index and announcing a conference on July 30, 2015, regarding the issues raised by the NOI.¹ On July 10, 2015, the Commission issued a notice soliciting presentations for the conference.

¹ Five-Year Review of the Oil Pipeline Index, 151 FERC ¶ 61,278 (2015).

Attached is an agenda for the event, including the schedule of speakers. The July 30, 2015 conference will be held at the Commission's headquarters at 888 First Street NE., Washington, DC 20426, between 2:00 p.m. and 4:00 p.m. (Eastern Time) in the Commission Meeting Room. The conference will be led by Commission staff and may be attended by one or more Commissioners.

If you have not already done so, those who plan to attend the technical conference are strongly encouraged to complete the registration form located at: https://www.ferc.gov/whats-new/registration/07-30-15-form.asp. Those interested in attending are encouraged to register by close of business July 27, 2015.

The Commission will post information on the technical conference on the Calendar of Events on the Commission's Web site, http://www.ferc.gov, prior to the conference. This conference will be webcast but not transcribed. Anyone with Internet access who desires to watch the conference can do so by navigating to the Calendar of Events on the Commission's Web site, http://www.ferc.gov, and locating the technical conference in the Calendar. The Calendar will contain a link to the webcast. Capitol Connection provides technical support for the webcast and offers the option of listening to the meeting via a phone-bridge for a fee. If you have any questions, visit www.CapitolConnection.org or call 703-993-3100.²

² The webcast will continue to be available on the Calendar of Events on the Commission's Web site at www.ferc.gov for three months after the conference.

Commission conferences are accessible under section 508 of the Rehabilitation Act of 1973. For accessibility accommodations, please send an email to accessibility@ferc.gov or call toll free (866) 208-3372 (voice) or (202) 502-8659 (TTY), or send a FAX to (202) 208-2106 with the required accommodations.

For more information about this technical conference, please contact Sarah McKinley, 202-502-8368, sarah.mckinley@ferc.gov.

Dated: July 24, 2015.
Nathaniel J. Davis, Sr.,
Deputy Secretary.

[FR Doc. 2015-18788 Filed 7-30-15; 8:45 am]

BILLING CODE 6717-01-P